DEPARTMENT OF TRANSPORTATION

Federal Motor Carrier Safety Administration

[Docket No. FMCSA-2025-0102]

Agency Information Collection Activities; Renewal of an Approved Information Collection: Hours of Service (HOS) of Drivers Regulations

AGENCY: Federal Motor Carrier Safety Administration (FMCSA), Department of Transportation (DOT).

ACTION: Notice and request for comments.

SUMMARY: In accordance with the Paperwork Reduction Act of 1995, the Federal Motor Carrier Safety Administration (FMCSA) announces its plan to submit the Information Collection Request (ICR) described below to the Office of Management and Budget (OMB) for its review and approval and invites public comment. FMCSA requests approval to renew an ICR titled, “Hours of Service (HOS) of Drivers Regulations.” The HOS regulations require a motor carrier to install, and requires each of its drivers subject to the record of duty status (RODS) rule to use, an electronic logging device (ELD) to report the driver's RODS. The RODS is critical to FMCSA's safety mission because it helps enforcement officials determine if commercial motor vehicle (CMV) drivers are complying with the HOS rules limiting driver on-duty and driving time and requiring periodic off-duty time.

DATES: Comments on this notice must be received on or before October 14, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Pearlie Robinson, FMCSA Driver and Carrier Operations Division, DOT, FMCSA, 1200 New Jersey Avenue SE, Washington, DC 20590-0001; (202) 913-0704; pearlie.robinson@dot.gov.

SUPPLEMENTARY INFORMATION:

Title: Hours of Service (HOS) of Drivers Regulations.

OMB Control Number: 2126-0001.

Type of Request: Renewal of a currently approved information collection.

Respondents: Motor Carriers of Property and Passengers, Drivers of CMVs.

Estimated Number of Respondents: 4.45 million CMV drivers; 813,844 Motor Carriers.

Estimated Time per Response: CMV drivers using technology: 2 minutes. Motor Carriers: 2 minutes.

Expiration Date: September 30, 2025.

Frequency of Response: Drivers: 240 days per year; Motor carriers 240 days per year.

Estimated Total Annual Burden: 53.40 million hours.

Background: CMV drivers are limited in how long they may remain in an on-duty or driving status over specified periods of time. The regulations outlining those limits are found at 49 CFR part 395 and are known as the “HOS regulations.” The HOS regulations require a motor carrier to install, and requires each of its drivers subject to the RODS rule to use, an ELD to report the driver's RODS. These RODS are used to enforce compliance with the HOS regulations.

As a condition of receiving certain federal grants, States agree to adopt and enforce the Federal Motor Carrier Safety Regulations, including the HOS regulations, as State law. As a result, State enforcement personnel use the RODS and supporting documents to determine whether CMV drivers are complying with the HOS regulations. In addition, FMCSA uses the RODS during on-site and offsite investigations of motor carriers and Federal and State courts rely upon the RODS as evidence of driver and motor carrier violations of the HOS regulations. This information collection supports DOT's Strategic Goal of Safety because the information helps the agency ensure the safe operation of CMVs in interstate commerce.

Renewal of This Information Collection (IC)

The current IC burden estimate of the HOS rules, approved by OMB on September 16, 2022, is 50.37 million hours. The expiration date of the current ICR is September 30, 2025. Through this ICR renewal, FMCSA requests a revision of the paperwork burden of 2126-0001. The Agency requests an increase in the burden hours from 50.37 million hours to 53.40 million hours. The increase is the result of the increase in estimated driver population as well as the increase in expected industry growth rate for drivers from 2023 to 2033. Two types of information are collected under this IC: (1) drivers' RODS commonly referred to as a logbook, and (2) supporting documents, such as gasoline and toll receipts, that motor carriers use to verify accuracy of RODS and document expense deductions for income tax filing purposes. The use of ELDs reduces the driver's time to input duty status from 6.5 minutes to 2 minutes. This IC includes only the estimate of 2 minutes for drivers and motor carriers.

On June 13, 2025, FMCSA published a 60-day notice in the Federal Register requesting public comments on the proposed revision of this IC (90 FR 25115). The Agency received one comment. Ross Tennison wrote, “The comments and recommendations for any regulation that has to do with truck drivers should not include those not employed as truck drivers or operating a business as a trucking or logistics companies.” Mr. Tennison's comment does not address any aspect of this IC.

Public Comments Invited: You are asked to comment on any aspect of this information collection, including: (1) whether the proposed collection is necessary for the performance of FMCSA's functions; (2) the accuracy of the estimated burden; (3) ways for the FMCSA to enhance the quality, usefulness, and clarity of the collected information; and (4) ways that the burden could be minimized without reducing the quality of the information collected.

The Agency will summarize or include your comments in the request for OMB's clearance of this ICR.

Issued under the authority of 49 CFR 1.87.
Nicole Michel,
Acting Associate Administrator, Office of Research and Registration.

[FR Doc. 2025-17667 Filed 9-11-25; 8:45 am]

BILLING CODE 4910-EX-P